DEPARTMENT OF ENERGY

Federal Energy Regulatory Commission

[Docket No. EC04-52-000, et al.]

Covanta Energy Corporation, et al.; Electric Rate and Corporate Filings

January 15, 2004.

The following filings have been made with the Commission. The filings are listed in ascending order within each docket classification.

1. Covanta Energy Corporation, Covanta Fairfax, Inc., Covanta Haverhill Associates, Covanta Union, Inc., Covanta Onondaga, Limited Partnership, Danielson Holding Corporation

[Docket No. EC04-52-000]

Take notice that on January 13, 2004 Covanta Energy Corporation (Covanta), Covanta Fairfax, Inc., Covanta Haverhill Associates, Covanta Union, Inc., Covanta Onondaga, Limited Partnership and Danielson Holding Corporation (Danielson) (collectively, the Applicants) filed with the Federal Energy Regulatory Commission an application pursuant to section 203 of the Federal Power Act for authorization to indirectly dispose of certain jurisdictional facilities in connection with Danielson's purchase of all shares of Covanta common stock in accordance with a plan of reorganization filed with the United States Bankruptcy Court for the Southern District of New York.

Applicants respectfully request that the Commission approve this transfer no later than February 24, 2004.

Comment Date: February 3, 2004.

2. Duquesne Power, L.P.

[Docket No. EG04-21-000]

On December 15, 2003, Duquesne Power, L.P. (Duquesne Power) filed a request for a refund of filing fee in the above-referenced proceeding. In its filing, Duquesne Power states that it inappropriately paid to the Commission a filing fee of $870.000.

On December 8, 2003, Duquesne Power filed an application for Determination of Status as an Exempt Wholesale Generator (EWG) pursuant to section 32 of the Public Utility Holding Company Act of 1935, as amended. With its application, Duquesne Power paid the $870.00 filing fee pursuant to 18 CFR 381.801 (2003). Section 381.801 states that the filing fee is “applicable to applicants who will not become public utilities as defined in section 201(e) of the Federal Power Act (FPA) upon sale of energy as wholesale.” Duquesne Power will be a public utility as defined in section 201(e) of the FPA upon the sale of electric energy at wholesale, and thus no fee is required in connection with its application.

For good cause shown, the request is granted and the refund will be processed accordingly. The refund will be made payable to “Duquesne Power, L.P.” and will be forwarded to Paul Silverman, Skadden, Arps, Slate, Meagher & Flom LLP, 1440 New York Avenue, NW., Washington, DC 20005-2111.

3. Rolling Hills Landfill Gas, LLC

[Docket No. EG04-30-000]

On January 13, 2004, Rolling Hills Landfill Gas, LLC (Rolling Hills), a Delaware limited liability company, with its principal place of business at 578 Longview Road, Boyerstown, Pennsylvania 19512, filed with the Federal Energy Regulatory Commission an application for a determination of exempt wholesale generator status pursuant to Part 365 of the Commission's regulations.

Rolling Hills states that copies of the application have been served upon the Securities and Exchange Commission and the Virginia State Corporation Commission.

Rolling Hills states that it will own or lease and operate an approximately 6 MW facility in Berks County, Pennsylvania. The facility is expected to commence commercial operations in August 2004.

Comment Date: February 3, 2004.

4. Fauquier Landfill Gas, LLC

[Docket No. EG04-31-000]

On January 13, 2004 Fauquier Landfill Gas, LLC (Fauquier), a Delaware limited liability company, with its principal place of business at Box 1017, Warrenton, Virginia, 20186, filed with the Federal Energy Regulatory Commission an application for a determination of exempt wholesale generator status pursuant to Part 365 of the Commission's regulations.

Fauquier states that copies of the application have been served upon the Securities and Exchange Commission and the Virginia State Corporation Commission.

Applicant will own or lease and operate an approximately 3 MW facility in Fauquier County, Virginia. The facility is expected to commence commercial operations in April 2004.

Comment Date: February 3, 2004.

5. Haviland Holdings, Inc., Complainant v. Southwest Power Pool, Inc., Respondent

[Docket No. EL04-54-000]

Take notice that on January 14, 2004, Haviland Holdings, Inc. (Haviland) submitted for filing a complaint against Southwest Power Pool, Inc. (Southwest) regarding Haviland's position in Southwest's transmission queue.

Comment Date: Febuary 5, 2004.

6. Haviland Holdings, Inc., Complainant v. Public Service Company of New Mexico, Respondent

[Docket No. EL04-55-000]

Take notice that on January 14, 2004, Haviland Holdings, Inc. tendered for filing a complaint against Public Service Company of New Mexico (PSC New Mexico) regarding Haviland's position in PSC New Mexico's transmission queue.

Comment Date: February 5, 2004.

7. Nordic Marketing, L.L.C., Nordic Energy, L.L.C., Nordic Marketing of Ohio, L.L.C., Nordic Marketing of Pennsylvania, L.L.C., Nordic Marketing of Illinois, L.L.C., Nordic Marketing of Massachusetts, L.L.C., Nordic Marketing of Michigan, L.L.C. , Nordic Marketing of New York, L.L.C., Nordic Marketing of New Jersey, L.L.C.

[Docket Nos. ER00-774-001, ER01-2311-001, ER03-885-001, ER03-887-001, ER03-888-001, ER04-263-001, ER04-264-001, ER04-265-001, and ER04-293-001]

Take notice that on January 12, 2004, the above referenced companies submitted a compliance filing in response to the Commission's November 17, 2003 Order Amending Market-based Rate Tariffs and Authorizations, in Docket Nos. EL01-118-000 and 001.

Comment Date: February 2, 2004.

8. Mobile Energy LLC

[Docket No. ER01-480-003]

Take notice that on January 12, 2004, Mobile Energy LLC submitted for filing its triennial updated market power analysis in compliance with the Commission Order in Docket No. ER01-480-000 issued on January 10, 2001.

Comment Date: February 2, 2004.

9. Hunlock Creek Energy Ventures

[Docket No. ER01-574-001]

Take notice that on January 8, 2004, Hunlock Creek Ventures (Energy Ventures) tendered for filing its triennial market power update and revised tariff sheets in response to the Commission November 17, 2003 Order Amending Market-based Rate tariffs and Authorizations in Docket Nos. EL01-118-000 and 001.

Comment Date: January 29, 2004.

10. New England Power Pool

[Docket No. ER03-345-002]

Take notice that on December 31, 2003, ISO New England Inc. (ISO) submitted a Status Report on Load Response Programs as directed by the Commission in its February 25, 2003, 102 FERC ¶ 61,202.

The ISO states that copies of the filing have been served on all parties to the above-captioned proceeding.

Comment Date: January 21, 2004.

11. Detroit Edison Company

[Docket Nos. ER04-14-001 and EL04-24-001]

Take notice that on December 22, 2003, Detroit Edison Company (Detroit Edison) submitted for filing with the Commission revised tariff sheets of its Ancillary Services Tariff to become effective as of December 2, 2003, the Commission's December 1, 2003 Order, clarifying the creditworthiness requirements in compliance with 105 FERC ¶ 61,264 (2003).

Comment Date: January 26, 2004.

12. American Electric Power Service Corporation

[Docket No. ER04-200-001]

Take notice that on January 12, 2004, EnviroPower, LLC (parent company of Kentucky Mountain Power, LLC) and Khanjee Holdings, LLC tendered for filing a request for deferment of the Cancellation of Service Agreement No. 312 under Companies of the American Electric Power System Open Access Tariff, FERC Electric Tariff Revised Volume 6 through December 31, 2004.

Comment Date: February 2, 2004.

13. University Park Energy, LLC

[Docket No. ER04-212-001]

Take notice that on January 12, 2004, University Park Energy, LLC (University Park) tendered for filing certain additional information to its application in Docket No. ER04-212-000 regarding its cost of service calculation of the black start rates contained in its proposed FERC Electric Tariff, Original Volume No. 2, a Black Start Service Agreement by and between University Park and Commonwealth Edison Company (ComEd) dated November 11, 2003.

University Park states that it mailed a copy of this filing to ComEd and the Illinois Commerce Commission.

Comment Date: January 23, 2004.

Morgan Stanley Capital Group Inc.

[Docket No. ER04-310-000]

Take notice that on December 17, 2003, Morgan Stanley Capital Group Inc. (MSCG), tendered for filing an amendment to rate schedule authorizing MSCG to engage in the sale of ancillary services at market-based rates.

Comment Date: January 26, 2004.

15. Southern California Edison Company

[Docket No. ER04-386-000]

Take notice, that on January 9, 2004, Southern California Edison Company (SCE) tendered for filing the Lasselle Street Wholesale Distribution Load Interconnection Facilities Agreement (Interconnection Agreement) and the Service Agreement for Wholesale Distribution Service (Service Agreement) between SCE and the City of Moreno Valley, California (Moreno Valley). SCE requests the Interconnection Agreement and the Service Agreement become effective on January 10, 2004.

SCE states that copies of this filing were served upon the Public Utilities Commission of State of California, and Moreno Valley.

Comment Date: January 30, 2004.

16. American Transmission Systems, Incorporated

[Docket No. ER04-387-000]

Take notice that on January 9, 2004, American Transmission Systems, Incorporated (ATSI) submitted for filing Service Agreement No. 343 a Construction Agreement for the Village of Genoa. ATSI requested an effective date of January 1, 2004 for the Construction Agreement.

ATSI states that copies of this filing were served on the representatives of the Village of Genoa, American Municipal Power-Ohio, Inc., Midwest ISO, and the Public Utilities Commission of Ohio.

Comment Date: January 30, 2004.

17. Lucky Lady Oil Company

[Docket No. ER04-388-000]

Take notice that on January 5, 2004, Lucky Lady Oil Company (Lucky Lady) petitioned the Commission for acceptance of Lucky Lady Oil Company Rate Schedule FERC No. 1; the granting of certain blanket approvals, including the authority to sell electricity at market-based rates; and the waiver of certain Commission regulations.

Lucky Lady states that it intends to engage in wholesale electric power and energy purchases and sales as a marketer. Lucky Lady further states that it is not in the business of generating or transmitting electric power.

Comment Date: January 30, 2004.

18. California Independent System Operator Corporation

[Docket No. ER04-389-000]

Take notice that on January 9, 2004, the California Independent System Operator Corporation (ISO) filed letter agreements with the Bonneville Power Administration (BPA), Reliant Energy Services (Reliant), and Sempra Energy Resources (Sempra). The ISO states that the letter agreements, which set forth dynamic scheduling arrangements between the ISO and these parties, are interim in nature pending the ISO's development of formal, generally applicable dynamic scheduling policies. The ISO notes that it is currently in the process of developing such policies and the new policies will apply to BPA, Reliant, and Sempra once they are finalized, as well as to all parties desiring dynamic scheduling arrangements.

The ISO states it has served copies of this filing on the California Public Utilities Commission, the California Energy Commission, the California Electricity Oversight Board, all parties with effective Scheduling Coordinator Service Agreements under the ISO Tariff, and the Participating Transmission Owners.

Comment Date: January 30, 2004.

19. Illinois Power Company

[Docket No. ER04-390-000]

Take notice that on January 9, 2004, Illinois Power Company (Illinois Power) tendered for filing Second Revised Interconnection Agreement entered into by Illinois Power and Dyenegy Midwest Generation, Inc. (designated as Second Revised Service Agreement No. 288). Illinois Power requests an effective date of January 1, 2004.

Comment Date: January 30, 2004.

20. PJM Interconnection L.L.C.

[Docket No. ER04-391-000]

Take notice that on January 9, 2004, PJM Interconnection, L.L.C. (PJM), submitted for filing an executed interconnection service agreement (ISA) among PJM, Fairless Energy, L.L.C., and PECO Energy Company and a notice of cancellation for an ISA that has been superceded. PJM requests a waiver of the Commission's 60-day notice requirement to permit a December 12, 2003 effective date for the ISA and the notice of cancellation.

PJM states that copies of this filing were served upon the parties to the agreements and the state regulatory commissions within the PJM region.

Comment Date: January 30, 2004.

21. Lincoln Electric System

[Docket No. OA04-1-000]

Take notice that on December 3, 2003, Lincoln Electric System (LES) pursuant to 18 CFR 35.28(e)(2) and Rule 207 of the Commission's Rules of Practice and Procedure, filed a petition requesting that the Commission waive the functional separation requirements of the standards of conduct set forth in Order 889, as modified in Order No. 2004.

Comment Date: February 13, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-99 Filed 1-23-04; 8:45 am]

BILLING CODE 6717-01-P